DEPARTMENT OF COMMERCE

National Oceanic and Atmospheric Administration

50 CFR Part 648

[Docket No. 260108-0025; RTID 0648-XF259]

Atlantic Surfclam and Ocean Quahog Fisheries; 2026 Fishing Quotas for Atlantic Surfclams and Ocean Quahogs; and Suspension of Atlantic Surfclam Minimum Size Limit

AGENCY: National Marine Fisheries Service (NMFS), National Oceanic and Atmospheric Administration (NOAA), Commerce.

ACTION: Final rule.

SUMMARY: NMFS announces that the quotas for the Atlantic surfclam and ocean quahog fisheries for 2026 will remain status quo. NMFS also suspends the minimum size limit for Atlantic surfclams for the 2026 fishing year. Regulations for these fisheries require NMFS to notify the public of the allowable harvest levels for Atlantic surfclams and ocean quahogs from the Exclusive Economic Zone even if the previous year's quota specifications remain unchanged. The 2026 quotas were previously announced as projected values. This action confirms the final quotas are unchanged from those projections. This action continues to provide sustainable fishing opportunities to these fisheries.

DATES: Effective January 13, 2026, through December 31, 2026. Applicable beginning January 1, 2026.

FOR FURTHER INFORMATION CONTACT: Douglas Potts, Fishery Policy Analyst, 978-281-9341.

SUPPLEMENTARY INFORMATION: The Atlantic Surfclam and Ocean Quahog Fishery Management Plan (FMP) requires that NMFS issue a notice in the Federal Register of the upcoming year's quota, even if the quota remains unchanged from the previous year. At its June 2025 meeting, the Mid-Atlantic Fishery Management Council (Council) recommended no change to the quota specifications for Atlantic surfclams and ocean quahogs for the 2026 fishing year. We are announcing 2026 quota levels of 3.4 million bushels (bu) (181 million Liters (L)) for Atlantic surfclams, 5.36 million bu (285 million L) for ocean quahogs, and 100,000 Maine bu (3.52 million L) for Maine ocean quahogs. These quotas were published as projected 2026 limits in the Federal Register on May 13, 2021 (86 FR 26186). This rule establishes these quotas as unchanged from 2021 and final.

In addition, the regulations at 50 CFR 648.75(b)(3) allow the Regional Administrator to annually suspend the minimum size limit for Atlantic surfclams unless discard, catch, and biological sampling data indicate that 30 percent or more of the Atlantic surfclams have a shell length less than 4.75 inches (121 millimeters (mm)) and the overall reduced size is not attributable to harvest from beds where growth of the individual clams has been reduced because of density-dependent factors. The default minimum size limit is intended to prevent the fishery from harvesting too many small clams such that it could harm the overall population. The size limit is unnecessary if small clams are not a significant portion of overall catch. At its June 2025 meeting, the Council reviewed recent developments in the fishery and recommended the Regional Administrator once again suspend the minimum size limit for Atlantic surfclams for the 2026 fishing year. Commercial surfclam data for 2025 indicated that 10.5 percent of the overall commercial landings were composed of surfclams that were less than the 4.75-inch (121-mm) default minimum size.

Based on the information available, the Regional Administrator concurs with the Council's recommendation and is suspending the minimum size limit for Atlantic surfclams for the upcoming fishing year (January 1 through December 31, 2026).

Classification

NMFS is issuing this rule pursuant to section 305(d) of the Magnuson-Stevens Act. In a previous action taken pursuant to section 304(b), the FMP authorized NMFS to take this action pursuant to MSA section 305(d). See 50 CFR 648.72. The Assistant Administrator for Fisheries, NOAA, has determined that this rule is consistent with the Atlantic Surfclam and Ocean Quahog FMP, other provisions of the Magnuson-Stevens Act, and other applicable law.

This action does not introduce any new reporting, recordkeeping, or other compliance requirements. This rule does not duplicate, overlap, or conflict with other Federal rules.

Pursuant to 5 U.S.C. 553(b)(B), there is good cause to waive prior notice and an opportunity for public comment on this action, as notice and comment would be unnecessary and contrary to the public interest. Similarly, the agency finds good cause to waive the 30-day delay in effective date pursuant to 5 U.S.C. 553(d)(3). This rule is routine and constitutes the implementation of a rule that has already received notice and comment. The public was given the opportunity to comment on the proposed rule for the 2021-2026 specifications (86 FR 9901, February 17, 2021), including the projected 2026 specifications, which remain unchanged. Delaying this action would prolong public uncertainty about the final quotas for the 2026 fishing year and could delay issuance of 2026 Individual Transferable Quota cage tags to quota shareholders. The public and industry participants expect this action because we previously alerted the public that we would conduct this review in interim years of the multi-year specifications and announce the final quotas before or as close as possible to the January 1 start of the fishing year. This rule could not be published earlier because of the time necessary to collect data and conduct the analysis to support suspending the minimum size limit for Atlantic surfclams.

This rule is exempt from the requirements of Executive Order 12866 because it contains no implementing regulations.

This final rule is not an Executive Order 14192 regulatory action because this action is not significant under Executive Order 12866.

Because prior notice and opportunity for public comment are not required for this rule by 5 U.S.C. 553, or any other law, the analytical requirements of the Regulatory Flexibility Act, 5 U.S.C. 601 et seq., are inapplicable. Accordingly, no Regulatory Flexibility Analysis is required and none has been prepared.

Authority: 16 U.S.C. 1801 et seq.

Dated: January 8, 2026.
Samuel D. Rauch III,
Deputy Assistant Administrator for Regulatory Programs, National Marine Fisheries Service.

[FR Doc. 2026-00479 Filed 1-12-26; 8:45 am]

BILLING CODE 3510-22-P